DEPARTMENT OF ENERGY

Federal Energy Regulatory Commission

Combined Notice of Filings #1

Take notice that the Commission received the following electric rate filings:

Docket Numbers: ER11-2970-004.

Applicants: Peetz Logan Interconnect, LLC.

Description: Peetz Logan Interconnect, LLC to be effective 11/1/2011.

Filed Date: 2/19/13.

Accession Number: 20130219-5184.

Comments Due: 5 p.m. ET 3/12/13.

Docket Numbers: ER13-957-000.

Applicants: California Independent System Operator Corporation.

Description: 2013-02-19 Price Consistency to be effective 5/1/2013.

Filed Date: 2/19/13.

Accession Number: 20130219-5175.

Comments Due: 5 p.m. ET 3/12/13.

Docket Numbers: ER13-958-000.

Applicants: Sunpower Corporation.

Description: Petition by SunPower Corporation for Limited Waiver of certain California Independent System Operator Corporation L.L.C. Open Access Transmission Tariff provisions of Appendix GG.

Filed Date: 2/19/13.

Accession Number: 20130219-5185.

Comments Due: 5 p.m. ET 3/12/13.

Docket Numbers: ER13-959-000.

Applicants: Duke Energy Carolinas, LLC.

Description: Formula Rate Filing (Various Corrections) to be effective 7/2/2012.

Filed Date: 2/20/13.

Accession Number: 20130220-5025.

Comments Due: 5 p.m. ET 3/13/13.

Docket Numbers: ER13-960-000.

Applicants: PJM Interconnection, L.L.C.

Description: Notice of Cancellation of First Revised SA No. 2925 in Docket No. ER12-520-000 to be effective 9/26/2012.

Filed Date: 2/20/13.

Accession Number: 20130220-5026.

Comments Due: 5 p.m. ET 3/13/13.

Docket Numbers: ER13-961-000.

Applicants: PJM Interconnection, L.L.C.

Description: Notice of Cancellation of Second Revised SA No. 2789 in Docket No. ER12-521-000 to be effective 9/26/2012.

Filed Date: 2/20/13.

Accession Number: 20130220-5027.

Comments Due: 5 p.m. ET 3/13/13.

Take notice that the Commission received the following electric reliability filings:

Docket Numbers: RR12-8-001.

Applicants: North American Electric Reliability Corp.

Description: Compliance Filing of the North American Electric Reliability Corporation in Response to December 20, 2012 Commission Order.

Filed Date: 2/19/13.

Accession Number: 20130219-5190.

Comments Due: 5 p.m. ET 3/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 20, 2013.
Nathaniel J. Davis, Sr.,
Deputy Secretary.

[FR Doc. 2013-04493 Filed 2-26-13; 8:45 am]

BILLING CODE 6717-01-P